DEPARTMENT OF THE INTERIOR

Bureau of Land Management

[WO-320-1330-PB-24 1A]

OMB Approval Number 1004-0169; Information Collection Submitted to the Office of Management and Budget for Review Under the Paperwork Reduction Act

The Bureau of Land Management (BLM) has submitted the proposed collection of information listed below to the Office of Management and Budget (OMB) for approval under the provisions of the Paperwork Reduction Act (44 U.S.C. chapter 3501 et seq.). On August 24, 2001, the BLM published a notice in the Federal Register (66 FR 44640) requesting comments on the collection. The comment period ended October 23, 2001. No comments were received. You may obtain copies of the proposed collection of information and related explanatory material by contacting the BLM Information Collection Clearance Officer at the telephone number listed below.

OMB is required to respond to this request within 60 days but may respond after 30 days. For maximum consideration, your comments and suggestions on the requirement should be made within 30 days directly to the Office of Management and Budget, Interior Department Desk Officer (1004-0169), Office of Information and Regulatory Affairs, Washington, DC 20503. Please provide a copy of your comments to the Bureau Information Collection Clearance Officer (WO-630) 1849 C St., NW., Mail Stop 401 LS, Washington, DC 20240.

Nature of Comments: We specifically request your comments on the following:

1. Whether the collection of information is necessary for the proper functioning of the Bureau of Land Management, including whether the information will have practical utility;

2. The accuracy of our estimates of the information collection burden, including the validity of the methodology and assumptions we use;

3. Ways to enhance the quality, utility, and clarity of the information collected; and

4. How to minimize the information collection burden on those who are to respond, including the use of appropriate automated, electronic, mechanical, or other technological collection techniques or other forms of information technology.

Title: Use and Occupancy Under the Mining Laws, 43 CFR 3715.

OMB Approval Number: 1004-0169.

Abstract: BLM collects information from mining claimants and operators to analyze and approve proposed mining development activities on public lands. The nonform information under 43 CFR 3715 authorizes BLM to manage the use and occupancy on public lands for developing the mineral deposits by mining claimants. Respondents are mining claimants and operators of prospecting, exploration, mining, and processing operations.

Form Number: None.

Frequency: Once.

Description of Respondents: Respondents are mining claimants and operators of prospecting, exploration, mining, and processing operations.

Estimated Completion Time: 2 hours.

Annual Responses: 150.

Application Fee Per Response: There is no filing fee.

Annual Burden Hours: 300.

Bureau Clearance Officer: Michael H. Schwartz, (202) 452-5033.

Dated: March 6, 2002.
Michael H. Schwartz,
Bureau of Land Management, Information Collection Clearance Officer.

[FR Doc. 02-8872 Filed 4-11-02; 8:45 am]

BILLING CODE 4310-84-M